FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011314-001 (2nd Edition).

Title: CSAV/SSI Cooperative Working Agreement.

Parties: Compania Sud Americana de Vapores S.A. and Swordfish Shipping Inc.

Filing Party: Walter H. Lion Esq.; McLaughlin & Stern, LLP; 260 Madison Avenue, New York, New York 10016.

Synopsis: The amendment removes rate discussion authority, authorizes the parties to charter space to each other on a ad hoc, case by case basis, updates both parties address, and various other changes.

Agreement No.: 012187-000.

Title: Siem Car Carrier Pacific AS/Hoegh Autoliners, Inc. Space Charter Agreement.

Parties: Siem Car Carrier Pacific AS and Hoegh Autoliners, Inc.

Filing Party: Ashley W. Craig Esq.; Venable LLP; 575 Seventh Street NW., Washington, DC 20004.

Synopsis: The agreement authorizes the parties to charter space to each other in the trade between China, Japan and Korea, on the one hand, and the U.S. West Coast on the other hand.

Agreement No.: 012188-000.

Title: Matson/Kyowa Space Charter Agreement.

Parties: Matson Navigation Company, Inc. (“Matson”) and Kyowa Shipping Co., Ltd. (“Kyowa”).

Filing Party: Sloan White; Matson; 555 12th Street, Oakland, California 94607.

Synopsis: The agreement authorizes the parties to charter space to each other in the trade between ports in Japan and Korea, on the one hand, and ports in Guam and the Commonwealth of the Northern Mariana Islands, on the other hand.

Agreement No.: 012189-000.

Title: Matson/Kyowa Space Charter Agreement for Guam and Pacific Islands.

Parties: Matson Navigation Company, Inc. (“Matson”) and Kyowa Shipping Co., Ltd. (“Kyowa”).

Filing Party: Sloan White; Matson; 555 12th Street, Oakland, California 94607.

Synopsis: The agreement authorizes the parties to charter space to each other in the trade between ports of Guam, on the one hand and ports in the Commonwealth of the Northern Mariana Islands, the Republic of the Marshall Islands, the Federated States of Micronesia and the Republic of Palau, on the other hand.

By Order of the Federal Maritime Commission.
Dated: November 21, 2012.
Karen V. Gregory,
Secretary.

[FR Doc. 2012-28779 Filed 11-27-12; 8:45 am]

BILLING CODE 6730-01-P